DEPARTMENT OF COMMERCE

International Trade Administration

[A-570-601]

Tapered Roller Bearings and Parts Thereof, Finished and Unfinished, from the People's Republic of China; Amended Final Results of Antidumping Duty Administrative Review

AGENCY: Import Administration, International Trade Administration, Department of Commerce.

ACTION: Notice of Amended Final Results of Antidumping Duty Administrative Review.

SUMMARY: As a result of a final and conclusive court decision, the Department of Commerce is revising the countrywide rate for the final results of June 1, 1993, through May 31, 1994, administrative review of the antidumping duty order on tapered roller bearings and parts thereof, finished and unfinished, from the People's Republic of China.

EFFECTIVE DATE: March 5, 2004.

FOR FURTHER INFORMATION CONTACT: Yang Jin Chun or Mark Ross, Group 1, Office 3, Import Administration, International Trade Administration, U.S. Department of Commerce, 14th Street and Constitution Avenue, NW, Washington, D.C. 20230; telephone: (202) 482-5760 and (202) 482-4794 respectively.

SUPPLEMENTARY INFORMATION:

Applicable Statute and Regulations

Unless otherwise indicated, all citations to the statute and to the Department's regulations are references to the provisions as they existed on December 31, 1994.

Background

On February 11, 1997, the Department of Commerce (the Department) published in the Federal Register its final results of the administrative review of the antidumping duty order on tapered roller bearings and parts thereof, finished and unfinished (TRBs), from the People's Republic of China (PRC). See Tapered Roller Bearings and Parts Thereof, Finished and Unfinished, From the People's Republic of China; Final Results of Antidumping Duty Administrative Review and Revocation in Part of Antidumping Duty Order, 62 FR 6189 (February 11, 1997). As a result of litigation, the Court of International Trade (CIT) remanded the results of the review to the Department on October 25, 2001. See Peer Bearing Company v. United States, 182 F. Supp. 2d 1285 (CIT 2001). The Department completed its final results of redetermination on remand on March 12, 2002, and submitted the results to the CIT; the CIT affirmed the Department's final remand results and dismissed the case. See Peer Bearing Company v. United States, No. 97-03-00419, slip op. 02-53 (CIT 2002). In another decision, Transcom, Inc. v. United States, 294 F.3d 1371 (Fed. Cir. 2002), the Court of Appeals for the Federal Circuit issued an opinion affirming the Department's original determination in this administrative review. As there was a final and conclusive court decision in this action, on December 31, 2002, we published in the Federal Register a notice of amended final results of administrative review. See Tapered Roller Bearings and Parts Thereof, Finished and Unfinished, From the People's Republic of China; Amended Final Results of Antidumping Duty Administrative Review, 67 FR 79902 (December 31, 2002) (Amended Final Results). In the Amended Final Results, we inadvertently omitted the revised PRC countrywide rate of 60.95 percent from the list of the revised weighted-average margins that was included in the final results of redetermination completed on March 12, 2002, and affirmed on June 5, 2002, by the CIT.

Amendment to Final Results

Pursuant to section 516A(e) of the Tariff Act of 1930, as amended (the Act), we are now amending the PRC countrywide rate from the final results of the administrative review of the antidumping duty order on TRBs from the PRC for the period of review June 1, 1993, through May 31, 1994. The revised PRC countrywide rate is 60.95 percent.

The Department shall determine, and U.S. Customs and Border Protection (CBP) shall assess, antidumping duties on all appropriate entries. We will issue appropriate assessment instructions directly to CBP within 15 days of publication of these amended final results of review.

Cash-Deposit Requirement

In accordance with section 751(a)(2)(C) of the Act, upon publication of these amended final results, for all PRC exporters which have not been found to be entitled to a separate rate, the cash-deposit rate will be the PRC countrywide rate of 60.95 percent for all shipments of the subject merchandise entered, or withdrawn from warehouse, for consumption on or after the publication date.

We are issuing and publishing this administrative review and notice in accordance with section 751(a)(1) of the Act.

Dated: February 27, 2004.
James J. Jochum,
Assistant Secretary for Import Administration.

[FR Doc. 04-5003 Filed 3-4-04; 8:45 am]

BILLING CODE 3510-DS-S